DEPARTMENT OF DEFENSE

Office of the Secretary

[Docket ID DoD-2022-OS-0103]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by March 13, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Community Capacity Inventory; OMB Control Number 0704-CCIS.

Type of Request: Existing collection in use without an OMB Control Number.

Number of Respondents: 10,500.

Responses per Respondent: 1.

Annual Responses: 10,500.

Average Burden per Response: 30 minutes.

Annual Burden Hours: 5,250.

Needs and Uses: The purpose of the Community Capacity Inventory is to provide a tool to help military leadership and family service providers at the Service and Program level make informed decisions about resource allocation and service delivery. The evidence-informed online tool is designed to be an option to assist commanders in periodically assessing the programs within the Military Family Readiness System (MFS). Ultimately the CCI assists commanders in assessing whether the current resources available to unit-level personnel are accessible and sufficient, or if outreach, counseling, coaching, education, skill building, and informal networks need to be augmented or re-allocated to improve the quality and/or accessibility of support.

Affected Public: Individuals or households.

Frequency: Annually.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: February 7, 2023.
Aaron T. Siegel,
Alternate OSD Federal Register Liaison Officer, Department of Defense.

[FR Doc. 2023-02880 Filed 2-9-23; 8:45 am]

BILLING CODE 5001-06-P